DEPARTMENT OF THE INTERIOR

Bureau of Land Management

[LLCAN01000.L18200000.XZ0000]

Notice of Public Meeting: Northwest California Resource Advisory Council

AGENCY: Bureau of Land Management, Interior.

ACTION: Notice of public meeting.

SUMMARY: In accordance with the Federal Land Policy and Management Act of 1976 (FLPMA), and the Federal Advisory Committee Act of 1972 (FACA), the U.S. Department of the Interior, Bureau of Land Management (BLM) Northwest California Resource Advisory Council will meet as indicated below.

DATES: The meeting will be held Thursday and Friday, July 26 and 27, 2012, at the Geyserville Inn, 21714 Geyserville Ave., Geyserville, California. On July 26, the council will convene at 10 a.m. and depart for a field tour of public lands. Members of the public are welcome. They must provide their own transportation, food and beverages. On July 27, the council meets from 8 a.m. to 2 p.m. in the conference room of the Geyserville Inn. Public comments will be accepted at 11 a.m.

FOR FURTHER INFORMATION CONTACT: Nancy Haug, BLM Northern California District manager, (530) 224-2160; or Joseph J. Fontana, public affairs officer, (530) 252-5332.

SUPPLEMENTARY INFORMATION: The 12-member council advises the Secretary of the Interior, through the BLM, on a variety of planning and management issues associated with public land management in Northwest California. At this meeting the RAC will discuss planning efforts for the Lost Coast Headlands and Lacks Creek areas of Humboldt County, hear a report on land use and natural resources shared by the BLM and neighboring national forests and plan for upcoming work with the BLM northwest California field offices. All meetings are open to the public. Members of the public may present written comments to the council. Each formal council meeting will have time allocated for public comments. Depending on the number of persons wishing to speak, and the time available, the time for individual comments may be limited. Members of the public are welcome on field tours, but they must provide their own transportation and meals. Individuals who plan to attend and need special assistance, such as sign language interpretation and other reasonable accommodations, should contact the BLM as provided above.

Dated: May 14, 2012.
Joseph J. Fontana,
Public Affairs Officer.

[FR Doc. 2012-12908 Filed 5-25-12; 8:45 am]

BILLING CODE 4310-40-P